DEPARTMENT OF JUSTICE

[CPCLO Order No. 01-2022]

Privacy Act of 1974; Systems of Records

AGENCY: Justice Management Division, United States Department of Justice.

ACTION: Notice of a modified system of records.

SUMMARY: Pursuant to the Privacy Act of 1974 and Office of Management and Budget (OMB) Circular No. A-108, notice is hereby given that the Justice Management Division (JMD), a component within the United States Department of Justice (DOJ or Department), proposes to modify a system of records notice titled “DOJ Personnel Public Health Emergency Records System,” JUSTICE/JMD-025. The component proposes to modify the system of records notice to explicitly encompass collection of records related to requests for exceptions from public health emergency mandates, as well as clarify the definition of Department personnel to specifically include individuals on assignment to the Department from local, state, tribal or territorial agencies.

DATES: This notice is effective upon publication, subject to a 30-day period in which to comment on the routine uses, described below. Therefore, please submit any comments by February 10, 2022.

ADDRESSES: The public, OMB, and Congress are invited to submit any comments by mail to the United States Department of Justice, Office of Privacy and Civil Liberties, ATTN: Privacy Analyst, (2Con), 145 N Street NE, Suite 300, Washington, DC 20530; by facsimile at 202-307-0693; or by email at privacy.compliance@usdoj.gov. To ensure proper handling, please reference the above CPCLO Order No. on your correspondence.

FOR FURTHER INFORMATION CONTACT: Arthur E. Gary, Deputy Assistant Attorney General, Policy, Management, and Procurement, 950 Pennsylvania Avenue NW, Washington, DC 20530-0001, (202) 514-3101.

SUPPLEMENTARY INFORMATION: This system of records covers information necessary and relevant to Department activities responding to and mitigating the COVID-19 pandemic and other high-consequence public health threats, and diseases or illnesses relating to a public health emergency. Such information may include information pertaining to Department personnel, including employees, interns, contractors, and other personnel assigned to Department components such as Task Force Officers and other detailees, relating to efforts to protect the Department's workforce from contracting the illness or disease that is the subject of a declared public health emergency. The information may also pertain to personnel who undergo preventative testing for, or receive a vaccination to prevent, a disease or illness that is the subject of a declared public health emergency, as well as information necessary to implement federal, state, or local mandates relating to a public health emergency, including requests for legally required exceptions such as those based on religious or medical considerations. The information collected may include identifying and contact information of individuals who have been suspected or confirmed to have contracted a disease or illness, or who have been exposed to an individual who had been suspected or confirmed to have contracted a disease or illness related to a declared public health emergency; individual circumstances and dates of suspected exposure; testing results, symptoms, and treatments; vaccination records; health status information; and other information necessary and relevant to Department activities responding to and mitigating COVID-19 and other high-consequence public health threats and diseases or illnesses relating to a public health emergency. The Department maintains this information to understand the impact of an illness or disease on the Department workforce, and to assist in reducing the spread of the disease or illness among Department personnel. In certain instances, depending on the type of record collected and maintained, records maintained in this system of records may also be covered by Office of Personnel Management/Government-10 Employee Medical File System Records, 75 FR 35,099 (June 21, 2010). However, JUSTICE/JMD-025 covers additional records—specifically records collected in response to COVID-19, a high-consequence public health threat, as well as other declared public health emergencies.

This system of records notice is being modified to conform with the requirements of Executive Order 14,043, Executive Order on Requiring Coronavirus Disease 2019 Vaccination for Federal Employees and Executive Order 14,042, Ensuring Adequate COVID Safety Protocols for Federal Contractors. These orders mandate that categories of Department personnel be vaccinated against COVID-19, subject to such exceptions as required by law. This system of records notice is being modified to incorporate collection of records related to requests for legally required exceptions from public health emergency mandates. Additionally, this system of records modification clarifies the definition of the term “Department personnel” to specifically include individuals on assignment to the Department from local, state, tribal or territorial agencies, such as Task Force Officers or other detailees.

In accordance with 5 U.S.C. 552a(r), the Department has provided a report to OMB and Congress on this modified system of records.

Dated: January 3, 2022.
Peter A. Winn,
Acting Chief Privacy and Civil Liberties Officer, United States Department of Justice.

JUSTICE/JMD-025:

SYSTEM NAME AND NUMBER:

DOJ Personnel Public Health Emergency Records System, JUSTICE/JMD-025.

SECURITY CLASSIFICATION:

Controlled Unclassified Information.

SYSTEM LOCATION:

Records may be maintained at all locations at which the Department of Justice (DOJ), or contractors on behalf of the Department, operate or at which DOJ operations are supported, including the Robert F. Kennedy Main Justice Department Building, 950 Pennsylvania Avenue NW, Washington, DC 20530-0001.

Additionally, records may be maintained electronically at one or more of the Department's data centers, including, but not limited to, one or more of the Department's Core Enterprise Facilities (CEF), including, but not limited to, the Department's CEF East, Clarksburg, WV 26306, or CEF West, Pocatello, ID 83201. Records within this system of records may be transferred to a Department-authorized cloud service provider within the Continental United States. Access to these electronic records may occur at any location at which the DOJ operates or where DOJ Office of the Chief Information Officer (OCIO) operations are supported. Some or all of the information in the system may be duplicated at other locations where the Department has granted direct access to support DOJ operations, system backup, emergency preparedness, and/or continuity of operations. To determine the location of a particular record maintained in this system of records, contact the system manager, whose contact information is listed in the “SYSTEM MANAGER(S)” paragraph, below.

SYSTEM MANAGER(S):

Arthur E. Gary, Deputy Assistant Attorney General, Policy, Management and Procurement, 950 Pennsylvania Avenue NW, Washington, DC 20530-0001, (202) 514-3101.

* * * * *

AUTHORITY FOR MAINTENANCE OF THE SYSTEM:

[Delete existing paragraph and replace with the following:]

Executive Order 14,043, Requiring Coronavirus Disease 2019 Vaccination for Federal Employees; Executive Order 14,042, Ensuring Adequate COVID Safety Protocols for Federal Contractors; federal workforce safety requirements, including the Occupational Safety and Health Act of 1970, 29 U.S.C. Ch. 15, and federal safety programs covered by 5 U.S.C. 7902, implemented by Executive Order No. 12,196, Occupational safety and health programs for Federal employees; federal laws governing reasonable accommodations, including The Rehabilitation Act of 1973, as amended, 29 U.S.C. 791, and Title VII of the Civil Rights Act of 1964, as amended, 42 U.S.C. 2000e, et seq.; and federal laws requiring the Attorney General to create and maintain federal records of agency activities, including 5 U.S.C. 301 and 44 U.S.C. 3101.

PURPOSE(S) OF THE SYSTEM:

[Delete existing paragraph and replace with the following:]

The purpose of this system is to maintain records necessary and relevant to Department activities responding to and mitigating the COVID-19 pandemic, and other public health emergencies. Such records include those records needed to understand the impact of an illness or disease on the Department workforce, and to assist in protecting the Department's workforce from, and responding to, a declared public health emergency or other high-consequence public health threats. Among other things, DOJ may use the information collected to facilitate the provision of vaccines to DOJ personnel, including employees, interns, and contractors; to inform individuals who may have been in proximity of a person possibly infected with the disease or illness at or on buildings, grounds, and properties that are owned, leased, or used by the Department; to confirm which personnel have received vaccinations to prevent such disease or illness to spread throughout the Department's workforce; or to process requests for legally required exceptions from public health emergency mandates, including exceptions to vaccination and testing requirements based on religious or medical considerations.

CATEGORIES OF INDIVIDUALS COVERED BY THE SYSTEM:

[Delete existing paragraph and replace with the following:]

Department personnel, including employees, interns, contractors, and other personnel assigned to Department components such as Task Force Officers and other detailees.

CATEGORIES OF RECORDS IN THE SYSTEM:

[Add the following paragraph:]

G. Records regarding a request for a legally required exception to a public health emergency mandate (e.g., written requests detailing the type of exception requested and the basis for such request; documentation accompanying the request to establish a legal basis for the exception; the Department's response to such request; documents related to the exception review process).

POLICIES AND PRACTICES FOR RETENTION AND DISPOSAL OF RECORDS:

[Delete existing paragraph and replace with the following:]

To the extent applicable, to ensure compliance with Americans with Disabilities Act (ADA), the Rehabilitation Act, and the Genetic Information Nondiscrimination Act of 2008 (GINA), medical information must be “maintained on separate forms and in separate medical files and be treated as a confidential medical record.” 42 U.S.C. 12112(d)(3)(B); 42 U.S.C. sec 2000ff-5(a); 29 CFR 1630.14(b)(1), (c)(1), (d)(4)(i); and 29 CFR 1635.9(a). This means that medical information and documents must be stored separately from other personnel records. Records compiled under this SORN will be maintained in accordance with applicable NARA General Records Schedules (GRS), including but not limited to: 2.7, Items 010, 070 or 080 (DAA-GRS2017-0010-0001, DAA-GRS2017-0010-0012, and DAA-GRS2017-0010-0013).

* * * * *

HISTORY:

DOJ Personnel Public Health Emergency Records System, JUSTICE/JMD-025, 86 FR 20740 (April 21, 2021).

[FR Doc. 2022-00240 Filed 1-10-22; 8:45 am]

BILLING CODE 4410-NW-P